DEPARTMENT OF COMMERCE

National Oceanic and Atmospheric Administration

[File No. 18662]

RIN 0648-XD694

Marine Mammals

AGENCY: National Marine Fisheries Service (NMFS), National Oceanic and Atmospheric Administration (NOAA), Commerce.

ACTION: Notice; receipt of application.

SUMMARY: Notice is hereby given that Allyson Hindle, Assistant Professor of Anesthesia, Massachusetts General Hospital, 55 Fruit Street, Thier 503, Boston, MA 02114, has applied in due form for a permit to receive, import, and export specimens of marine mammals for scientific research purposes.

DATES: Written, telefaxed, or email comments must be received on or before February 9, 2015.

ADDRESSES: The application and related documents are available for review by selecting “Records Open for Public Comment” from the Features box on the Applications and Permits for Protected Species (APPS) home page, https://apps.nmfs.noaa.gov, and then selecting File No. 18662 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 18662 in the subject line of the email comment.

Those individuals requesting a public hearing should submit a written request to the Chief, Permits and Conservation Division at the address listed above. The request should set forth the specific reasons why a hearing on this application would be appropriate.

FOR FURTHER INFORMATION CONTACT: Rosa L. González or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant proposes to receive, import, and export tissue and other specimen materials (e.g., body fluids) for comparative research on the physiology and other biological aspects of marine mammals. Unlimited samples from up to 200 individual cetaceans and 200 individual pinnipeds (excluding walrus) are requested to be received, imported, or exported annually on an opportunistic basis. Marine mammal samples will be collected by others under separate existing permits and may be obtained from the following sources: (1) Animals killed during legal subsistence harvests in the U.S. and abroad; (2) animals that died incidental to legal commercial fishing operations in the U.S. and in foreign countries (i.e., bycatch); (3) animals stranded alive or dead in foreign countries; (4) samples collected from captive animals, including live animals and those that die in captivity, where such samples were taken as a result of routine husbandry/medical procedures/examination or under separate permit or authorization in the U.S. and abroad; and (5) samples from other permitted research in the U.S. and abroad. Samples collected from stranded animals in the U.S. and received under separate authorization may be exported and re-imported. No takes of live animals is requested or would be permitted. The applicant has requested a 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 29, 2014.
Julia Harrison,
Chief, Permits and Conservation Division, Office of Protected Resources, National Marine Fisheries Service.

[FR Doc. 2015-00072 Filed 1-7-15; 8:45 am]

BILLING CODE 3510-22-P